DEPARTMENT OF ENERGY

Federal Energy Regulatory Commission

[Docket No. EC00-97-000, et al.]

Atlantic City Electric Company, et al.; Electric Rate and Corporate Regulation Filings

June 9, 2000.

Take notice that the following filings have been made with the Commission:

1. Atlantic City Electric Company, Delmarva Power & Light Company and Conectiv Energy Supply, Inc.

[Docket No. EC00-97-000]

Take notice that on June 1, 2000, Atlantic City Electric Company (Atlantic), Delmarva Power & Light Company (Delmarva) and Conectiv Energy Supply, Inc. (CESI) (collectively, the Applicants) tendered an application under the provisions of Section 203 of the Federal Power Act involving the assignment of Atlantic and Delmarva's rights and obligations under certain of their wholesale power sales agreements (“Agreements”) to CESI.

The Applicants respectfully request an effective date of June 1, 2000, the date of filing.

The Applicants state that copies of this joint application have been served upon Atlantic and Delmarva's counter parties in the Agreements and the pertinent state regulatory commissions.

Comment date: July 3, 2000, in accordance with Standard Paragraph E at the end of this notice.

2. Commonwealth Edison Company

[Docket No. EC00-98-000]

Take notice that on May 31, 2000 Commonwealth Edison Company (ComEd) tendered for filing an application pursuant to Section 203 of the Federal Power Act and Part 33 of the Commission's regulations, 18 CFR part 33, for an order approving the transfer of jurisdictional assets.

ComEd states that it has, by mail, served a copy of the Application on the Illinois Commerce Commission and on other identified entities.

Comment date: June 30, 2000, in accordance with Standard Paragraph E at the end of this notice.

3. Mountain West Independent Scheduling Administrator

[Docket Nos. ER99-3719-000 and EC99-100-000]

Take notice that on June 6, 2000, the Mountain West Independent Scheduling Administrator (Mountain West) tendered for filing modifications to its Electric Rate Tariff to comply with the Commission's order in Mountain West Independent System Administrator, 90 FERC ¶ 61,067 (January 27, 2000).

Mountain West states that this filing has been served upon all parties in this proceeding.

Comment date: June 27, 2000, in accordance with Standard Paragraph E at the end of this notice.

4. PECO Energy Company

[Docket No. ER00-2679-000]

Take notice that on June 1, 2000, PECO Energy Company (PECO) submitted for filing a Notice of Cancellation seeking to terminate PECO's Rate Schedule FERC No. 55, that certain Transmission Service and Interconnection Contract dated December 26, 1989, between Philadelphia Electric Company and Delaware Resource Management, Inc., to which PECO and American Ref-Fuel Company of Delaware Valley, L.P. (American Ref-Fuel) are successors respectively; and an Interconnection Agreement between PECO and American Ref-Fuel for Generation Interconnection and Parallel Operation.

Copies of this filing were served on American Ref-Fuel and the Pennsylvania Public Utility Commission.

Comment date: June 22, 2000, in accordance with Standard Paragraph E at the end of this notice.

5. PJM Interconnection, L.L.C.

[Docket No. ER00-2709-000]

Take notice that on June 5, 2000, PJM Interconnection, L.L.C. (PJM), tendered for filing an executed interconnection service agreement between PJM and Commonwealth Chesapeake Company, L.L.C., (Commonwealth).

PJM requests a waiver of the Commission's 60-day notice requirement and an effective date of June 1, 2000.

Copies of this filing were served upon Commonwealth, Delmarva Power & Light Company, and the Virginia State Corporation Commission.

Comment date: June 26, 2000, in accordance with Standard Paragraph E at the end of this notice.

6. SOWEGA Power LLC

[Docket No. ER00-2710-000]

Take notice that on June 5, 2000, SOWEGA Power LLC, tendered for filing, pursuant to Section 205 of the Federal Power Act, an amendment to its existing service agreement with Coral Power, L.L.C., under SOWEGA's market-based sales tariff, SOWEGA FERC Rate Schedule No. 1, Service Agreement No. 3.

SOWEGA requests an effective date from the Commission as of June 1, 2000 for the 1st Revised Service Agreement No. 3.

Comment date: June 26, 2000, in accordance with Standard Paragraph E at the end of this notice.

7. Maine Public Service Company

[Docket No. ER00-2711-000]

Take notice that on June 2, 2000, Maine Public Service Company (Maine Public) tendered for filing an executed Service Agreement for Network Integration Transmission Service and Network Operating Agreement under Maine Public's open access transmission tariff with Van Buren Light & Power District.

Maine Public requests waiver of the Commission's 60-day notice requirements so that the service agreement can become effective on June 1, 2000.

Comment date: June 23, 2000, in accordance with Standard Paragraph E at the end of this notice.

8. El Dorado Energy, LLC

[Docket No. ER00-2712-000]

Take notice that on June 5, 2000, El Dorado Energy, LLC (El Dorado), tendered for filing two service agreements under its market-based rate tariff.

Comment date: June 26, 2000, in accordance with Standard Paragraph E at the end of this notice.

9. Southwest Power Pool, Inc.

[Docket No. ER00-2713-000]

Take notice that on June 5, 2000, Southwest Power Pool, Inc., (SPP), tendered for filing proposed amendments to its Open Access Transmission Tariff adding a new Attachment V prescribing coordinated procedures for customers seeking interconnection of generation.

SPP requests that the Commission accept the proposed revisions to become effective on June 6, 2000.

Copies of this filing were served upon all SPP Members and customers, as well as on all state commissions within the SPP region.

Comment date: June 26, 2000, in accordance with Standard Paragraph E at the end of this notice.

10. Tampa Electric Company

[Docket No. ER00-2714-000]

Take notice that on June 5, 2000, Tampa Electric Company (Tampa Electric), tendered for filing a notice pursuant to the Commission's “Order Accepting Filing,” issued on May 8, 2000 in the matter of North American Electric Reliability Council, Docket No. ER00-1666-000, stating that: (1) It uses the North American Electric Reliability Council's revised Transmission Loading Relief procedures; and (2) its open access transmission tariff shall be considered so modified.

Tampa Electric states that a copy of its notice has been served on each person identified on the official service list in Docket No. ER00-1666-000 and each customer under its open access tariff.

Comment date: June 26, 2000, in accordance with Standard Paragraph E at the end of this notice.

11. Florida Power Corporation

[Docket No. ER00-2715-000]

Take notice that on June 6, 2000, Florida Power Corporation (FPC), tendered for filing a service agreement between Sempra Energy Trading Corp. and FPC under FPC's Market-Based Wholesale Power Sales Tariff (MR-1), FERC Electric Tariff, Original Volume Number 8. This Tariff was accepted for filing by the Commission on June 26, 1997, in Docket No. ER97-2846-000.

The service agreement with Sempra Energy Trading Corp., is proposed to be effective May 30, 2000.

Comment date: June 27, 2000, in accordance with Standard Paragraph E at the end of this notice.

12. Kentucky Utilities Company

[Docket No. ER00-2716-000]

Take notice that on June 5, 2000, Kentucky Utilities Company tendered for filing an executed supplement to the interconnection between Kentucky Utilities Company and East Kentucky Power Cooperative, Inc. The agreements provides for the construction of facilities to add an additional interconnection point on Kentucky Utilities Company's Rodburn-Spencer 138kV transmission line to serve the load area near Kentucky Utilities Company's Sharkey substation.

Comment date: June 26, 2000, in accordance with Standard Paragraph E at the end of this notice.

13. New England Power Pool

[Docket No. ER00-2717-000]

Take notice that on June 5, 2000, the New England Power Pool (NEPOOL), Participants Committee filed notification that the effective date of membership in NEPOOL of Quinnipiac Energy LLC will be deferred until the date of the closing of Quinnipiac's acquisition of generating assets from The United Illuminating Company.

Comment date: June 26, 2000, in accordance with Standard Paragraph E at the end of this notice.

14. Cleco Utility Group Inc.

[Docket No. ER00-2718-000]

Take notice that on June 5, 2000, Cleco Utility Group Inc., tendered for filing, pursuant to Section 206 of the Federal Power Act and the Commission's order in North American Electric Reliability Council, 91 FERC ¶ 61,122 (2000), an amendment to its Second Revised FERC Electric Tariff Volume No. 1 to incorporate the revised transmission loading relief procedures approved by the Commission therein.

Comment date: June 26, 2000, in accordance with Standard Paragraph E at the end of this notice.

15. Louisville Gas and Electric Company/Kentucky Utilities Company

[Docket No. ER00-2719-000]

Take notice that on June 5, 2000, Louisville Gas and Electric Company (LG&E)/Kentucky Utilities (KU) (hereinafter Companies), tendered for filing an executed Netting Agreement between the Companies and Tenaska Power Services Co.

Comment date: June 26, 2000, in accordance with Standard Paragraph E at the end of this notice.

16. Northern States Power Company (Minnesota) and Northern States Power Company (Wisconsin)

[Docket No. ER00-2720-000]

Take notice that on June 5, 2000, Northern States Power Company (Minnesota) and Northern States Power (Wisconsin) (together NSP) tendered for filing pursuant to Section 205 of the Federal Power Act and Part 35 of the Commission's Regulations, settlement provisions that extend certain of the provisions in the filing approved by the Commission at Northern States Power Co., 89 FERC ¶ 61,300 (1999).

Comment date: June 26, 2000, in accordance with Standard Paragraph E at the end of this notice.

17. Southwest Power Pool, Inc.

[Docket No. ER00-2721-000]

Take notice that on June 5, 2000, Southwest Power Pool, Inc. (SPP), tendered for filing an executed service agreement for Firm Point-to-Point Transmission Service with Central and South West Services, Inc., as agent for West Texas Utilities company (Transmission Customer).

SPP requests an effective date of April 1, 2000 for this agreement.

A copy of this filing were served upon the Transmission Customer.

Comment date: June 26, 2000, in accordance with Standard Paragraph E at the end of this notice.

18. Virginia Electric and Power Company

[Docket No. ER00-2728-000]

Take notice that on June 5, 2000, Virginia Electric and Power Company (Virginia Power or the Company), tendered for filing a long-term Service Agreement between Virginia Power and Associated Electric Cooperative, Inc. Virginia Power requests that the Commission accept this Agreement as a service agreement under the Company's Revised Market-Based Rate Tariff designated as FERC Electric Tariff (Second Revised Volume No. 4), which was accepted by order of the Commission dated August 13, 1998 in Docket No. ER98-3771-000.

As requested by the customer, the Company asks that the Commission grant a waiver to make this agreement effective June 1, 2000.

Copies of the filing were served upon Associated Electric Cooperative, Inc., the Virginia State Corporation Commission and the North Carolina Utilities Commission.

Comment date: June 26, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-15270 Filed 6-15-00; 8:45 am]

BILLING CODE 6717-01-P